DEPARTMENT OF COMMERCE

National Oceanic and Atmospheric Administration

[I.D. 061803A]

Marine Mammals; File No. 716-1705

AGENCY: National Marine Fisheries Service (NMFS), National Oceanic and Atmospheric Administration (NOAA), Commerce.

ACTION: Receipt of application.

SUMMARY: Notice is hereby given that Fred Sharpe, Ph.D., Alaska Whale Foundation, 4739 University Way NE, #1239, Seattle Washington 98105, has applied in due form for a permit to take humpback whales (Megaptera novaeangliae) and killer whales (Orcinus orca) for purposes of scientific research.

DATES: Written or telefaxed comments must be received on or before July 24, 2003.

ADDRESSES: The application and related documents are available for review upon written request or by appointment in the following offices:

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Jill Lewandowski or Gene Nitta, (301)713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

The proposed activities involve research on North Pacific humpback whales and killer whales and are a continuation of studies previously authorized under Permit Nos. 866 and 716-1456. Studies on Pacific herring will also be conducted in order to test various aspects of humpback foraging ecology and social biology. In order to examine the behavior, social structure and foraging ecology of North Pacific humpback whales, the applicant is requesting authorization for 350 annual takes by close approach for photo-identification and behavioral observation, 280 annual takes by acoustic recordings and playbacks of conspecific sound and 18 annual takes by suction cup tagging with Crittercam/TDR dive tags. The researcher also proposes to continue opportunistic photo-identification and behavioral observation of killer whales and is requesting 300 annual takes for these purposes. All research activities will be conducted over a five year period in the waters of southeastern Alaska including Chatham Strait, Dixon Entrance, Cross Sound, and Icy Strait and the waters of Washington state.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: June 19, 2003.
Stephen L. Leathery,
Chief, Permits, Conservation and Education Division, Office of Protected Resources, National Marine Fisheries Service.

[FR Doc. 03-15952 Filed 6-23-03; 8:45 am]

BILLING CODE 3510-22-S